FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011346-022.

Title: Israel Carrier Association.

Parties: A.P. Moller-Maersk A/S; American President Lines, Ltd.; Maersk Line Limited; and Zim Integrated Shipping Services, Ltd.

Filing Party: Howard A. Levy, Esq.; Chairman; Israel Trade Conference; 80 Wall Street, Suite 1117; New York, NY 10005-3602.

Synopsis: The amendment changes the authority of the Agreement from a conference to a service contract with Israel's Ministry of Defense, changes the Agreement's name from Israel Trade Conference Agreement, and restates the entire Agreement.

Agreement No.: 011679-012.

Title: ASF/SERC Agreement.

Parties: American President Lines, Ltd./APL Co. Pte Ltd.; ANL Singapore Pte Ltd.; China Shipping (Group) Company/China Shipping Container Lines, Co. Ltd.; COSCO Container Lines Company, Ltd.; Evergreen Line Joint Service; Hanjin Shipping Co., Ltd.; Hyundai Merchant Marine Co., Ltd.; Kawasaki Kisen Kaisha, Ltd.; Mitsui O.S.K. Lines, Ltd.; Nippon Yusen Kaisha; Orient Overseas Container Line Ltd.; Wan Hai Lines Ltd.; and Yang Ming Marine Transport Corp.

Filing Party: Wayne Rohde, Esq.; Cozen O'Connor; 1627 I Street, NW.; Suite 1100; Washington, DC 20006.

Synopsis: The amendment updates the corporate addresses of American President Lines Ltd. and APL Co Pte. Ltd.

Agreement No.: 012036-002.

Title: Maersk Line/MSC TP5 Space Charter Agreement.

Parties: A.P. Moeller-Maersk A/S and Mediterranean Shipping Company S.A.

Filing Party: Wayne Rohde, Esq.; Cozen O'Connor; 1627 I Street, NW.; Suite 1100; Washington, DC 20006.

Synopsis: The amendment deletes the People's Republic of China from the geographic scope of the agreement, revises the amount of space to be chartered, deletes obsolete reference to sub-chartering, and revises the duration of the Agreement.

Agreement No.: 012046-001.

Title: MSC/Hapag-Lloyd Space Charter Agreement.

Parties: Hapag-Lloyd AG; and Mediterranean Shipping Co. S.A. (“MSC”).

Filing Party: Wayne Rohde, Esq.; Cozen O'Connor; 1627 I Street, NW.; Suite 1100; Washington, DC 20006.

Synopsis: The amendment deletes the U.S. Gulf Coast, Mexico, and Venezuela from the geographic scope of the agreement and revises the amount of space to be chartered.

Agreement No.: 012106-001.

Title: HLAG/HSDG Trans-Atlantic Space Charter Agreement.

Parties: Hamburg Sud and Hapag-Lloyd AG.

Filing Parties: Wayne R. Rohde, Esq.; Cozen O'Connor; 1627 I Street, NW., Suite 1100; Washington, DC 20006.

Synopsis: The amendment adds Hamburg, Germany to the scope of the Agreement and revises the amount of space to be chartered.

Agreement No.: 012107-001.

Title: HLAG/HMM Trans-Atlantic Space Charter Agreement.

Parties: Hapag-Lloyd AG and Hyundai Merchant Marine Co., Ltd.

Filing Parties: Wayne R. Rohde, Esq.; Cozen O'Connor; 1627 I Street, NW., Suite 1100; Washington, DC 20006.

Synopsis: The agreement would add Hamburg, Germany to the scope of the agreement and revise the amount of space to be chartered.

Agreement No.: 012119.

Title: Maersk Line/CMA CGM TP5 Space Charter Agreement.

Parties: A.P. Moller-Maersk A/S and CMA CGM S.A.

Filing Parties: Wayne Rohde, Esq.; Cozen O'Connor; 1627 I Street, NW.; Suite 1100; Washington, DC 20006.

Synopsis: The agreement authorizes Maersk Line to charter space to CMA CGM on its TP5 service in the trade between U.S. Pacific Coast ports and ports in Japan and South Korea.

Agreement No.: 012120.

Title: CSAV/Liberty Turkey Space Charter Agreement.

Parties: Compana Sud Americana de Vapores S.A. and Liberty Global Logistics LLC.

Filing Party: Walter H. Lion, Esq.; McLaughlin & Stern, LLP; 260 Madison Avenue; New York, NY 10016.

Synopsis: The agreement authorizes CSAV to charter space from Liberty for the carriage of motorized vehicles via direct service or transshipment from ports in Turkey to ports in the U.S. Atlantic and Gulf Coast.

By Order of the Federal Maritime Commission.
Dated: February 25, 2011.
Karen V. Gregory,
Secretary.

[FR Doc. 2011-4666 Filed 3-1-11; 8:45 am]

BILLING CODE 6730-01-P